DEPARTMENT OF AGRICULTURE

Rural Housing Service

Notice of Acceptance of Proposals for the Section 538 Multi-Family Housing Guaranteed Rural Rental Housing Program (GRRHP) Demonstration Program for Fiscal Year 2010; Correction

AGENCY: Rural Housing Service, USDA.

ACTION: Notice; correction.

SUMMARY: The Rural Housing Service (RHS) published a document in the Federal Register of May 10, 2010, announcing the implementation of a demonstration program under the section 538 Guaranteed Rural Rental Housing Program (GRHHP) for Fiscal Year 2010. A correction to the document is needed to extend the application obligation date of eligible applications. This action is to ensure that all applications that meet program criteria and have responded accordingly will be considered in the Demonstration Program.

FOR FURTHER INFORMATION CONTACT: Tammy Daniels, 202-720-0021.

Correction

In the Federal Register of May 10, 2010, in FR Doc. 2010-10929, on page 25830, in the first column, correct paragraphs 4 and 5 to read:

4. A Lender must have submitted its application under the GRRHP 2008 Notice published February 4, 2008, Volume 73 FR 6469-6477, the GRRHP 2009 Notice published January 21, 2009, Volume 74 FR 3551-3558, or the GRRHP 2009 Notice published on June 26, 2009, Volume 74 FR 30503-30510 or the GRRHP 2010 Notice published February 26, 2010, Volume 75 FR 8896-8902.

5. The application to be considered must have been obligated from October 1, 2007 to December 17, 2010.

On page 25830, in the first column, under the heading “Demonstration Program Selection Process,” correct the second paragraph to read:

“The first round of selections into the Demonstration Program will be made on May 20, 2010. In the event there are not enough qualified requests for selection into the Demonstration Program to utilize all the available Demonstration Program set-aside funds of approximately $10 million, then the selection process for any remaining funds will be conducted again June 11, 2010. In the event there are not enough qualified requests for selection into the Demonstration Program to utilize all the available Demonstration Program authority, then until all funds are exhausted, an additional selection process will be conducted on the 3rd Friday of each month starting July 16, 2010. December 17, 2010, will be the last possible selection date unless the Final Rule is published as explained below. All applicants will be notified of the selection results no later than 30 business days from the date of selection.”

Dated: June 7, 2010.
Tammye Treviño,
Administrator, Rural Housing Service.

[FR Doc. 2010-14161 Filed 6-11-10; 8:45 am]

BILLING CODE 3410-XV-P